DEPARTMENT OF TRANSPORTATION

Federal Aviation Administration

14 CFR Part 39

[Docket No. FAA-2011-0255; Directorate Identifier 2010-NM-253-AD; Amendment 39-16844; AD 2011-22-02]

RIN 2120-AA64

Airworthiness Directives; Airbus Airplanes

AGENCY: Federal Aviation Administration (FAA), Department of Transportation (DOT).

ACTION: Final rule.

SUMMARY: We are adopting a new airworthiness directive (AD) for all Airbus Model A310 series airplanes; Model A300 B4-600, B4-600R, and F4-600R series airplanes; and Model C4-605R variant F airplanes (collectively called A300-600 series airplanes). This AD results from mandatory continuing airworthiness information (MCAI) originated by an aviation authority of another country to identify and correct an unsafe condition on an aviation product. The MCAI describes the unsafe condition as:

An operator reported several cases of wire damages at the pylon/wing interface. Analysis revealed that wires damages are due to installation quality issue resulting from lack of information in installation drawings and job cards.

Moreover detailed analysis has highlighted that the Low Pressure Valve (LPV) wires were not segregated by design.

* * * * *

If left uncorrected, the wire chafing could impact fire protection and detection system. It may also induce dormant failure on LPV preventing its closure leading to a permanent and uncontrolled fire (in case of fire ignited upstream the High Pressure Valve (HPV)).

* * * * *

We are issuing this AD to require actions to correct the unsafe condition on these products.

DATES: This AD becomes effective November 29, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on March 22, 2011 (76 FR 15870). That NPRM proposed to correct an unsafe condition for the specified products. The European Aviation Safety Agency (EASA), which is the Technical Agent for the Member States of the European Community, has issued revised parallel mandatory continuing airworthiness information (MCAI) AD 2010-0178R1, dated May 20, 2011. The revised MCAI states:

An operator reported several cases of wire damages at the pylon/wing interface. Analysis revealed that wires damages are due to installation quality issue resulting from lack of information in installation drawings and job cards.

Moreover detailed analysis has highlighted that the Low Pressure Valve (LPV) wires were not segregated by design.

Due to design similarities, A310, A300-600 and A300-600ST aeroplanes can be affected, depending on the wires installation in the concerned area.

If left uncorrected, the wire chafing could impact fire protection and detection system. It may also induce dormant failure on LPV preventing its closure leading to a permanent and uncontrolled fire (in case of fire ignited upstream the High Pressure Valve (HPV)).

For the reasons explained above, this AD requires the modification of the electrical installation in the pylon/wing interface to avoid wire damages.

Shortly after this [EASA] AD was issued, it was discovered that Airbus Service Bulletin (SB) A310-24-2106, associated to Airbus modification 13541, contained wrong Low Pressure Valve installation drawings. This makes it impossible for the operators to accomplish the SB instructions. Consequently, Airbus have revised the SB to correct the error.

Revision 1 of this [EASA] AD is issued to require modification 13541 to be incorporated in accordance with the instructions of Airbus SB A310-24-2106 at Revision 1.

The modification includes a general visual inspection of wires for damage, and repair if necessary. You may obtain further information by examining the MCAI in the AD docket.

Comments

We gave the public the opportunity to participate in developing this AD. We considered the comment received.

Request To Change Compliance Time

UPS stated that it agreed with the actions proposed in the NPRM (76 FR 15870, March 22, 2011); however, it requested that the 30-month compliance time be extended to 36 months. UPS stated that extending the compliance time to 36 months would reduce the potential for special maintenance visits for unmodified airplanes. UPS stated that the additional 6 months would reduce potential operator hardship and allow for a timely correction of the unsafe condition. UPS also stated that, in accordance with EASA Airworthiness Directive 2010-0178, dated August 23, 2010; Airbus Mandatory Service Bulletin A300-24-6106, dated March 31, 2010; and Airbus Mandatory Service Bulletin A310-24-2106, dated May 27, 2010; the original wire damage was a result of installation defects during production, and the issues related to wiring segregation, conduit installation, and improved clamping and lacing were all identified by Airbus during the two-year investigation process. UPS stated that these design improvements are not related to the correction of the installation defects, and they are not critical airworthiness concerns, thus justifying a longer compliance period.

We disagree with extending the compliance time. In developing an appropriate compliance time, we considered the safety implications and normal maintenance schedules for timely accomplishment of the modification. The FAA considered the potential repercussion of wire chafing and the fact that some failures are hidden. In particular, there may be some dormant failures on the LPV preventing its closure in case of fire upstream the HPVs. Accomplishment of the service bulletins will correct the electrical installation if there are any defects, avoiding further damages at the pylon/wing interface. Affected operators, however, may request an extension of the compliance time under the provisions of paragraph (h)(1) of this AD by submitting data substantiating that the change would provide an acceptable level of safety.

Revised Service Information

Since the NPRM (76 FR 15870, March 22, 2011) has been issued, EASA has issued Airworthiness Directive 2010-0178R1, dated May 20, 2011. We have received a report that Airbus Mandatory Service Bulletin A310-24-2106, dated May 27, 2010, associated with Airbus Modification 13541, contained the wrong installation drawings of the LPV. This made it impossible for operators to accomplish the instructions in that service bulletin. Airbus has issued Mandatory Service Bulletin A310-24-2106, Revision 01, including Appendix 01, dated April 4, 2011, to address the error. We have revised paragraph (g) of this AD accordingly to reflect the new service information.

Conclusion

We reviewed the available data, including the comment received, and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Revised Costs of Compliance

Since the NPRM (76 FR 15870, March 22, 2011) was issued, Airbus has issued Mandatory Service Bulletin A310-24-2106, Revision 01, including Appendix 01, dated April 4, 2011, which updated the cost for required parts to $1,340 per product. We have revised the Costs of Compliance section of this AD accordingly to reflect the new parts cost.

Costs of Compliance

We estimate that this AD will affect 185 products of U.S. registry. We also estimate that it will take about 16 work-hours per product to comply with the basic requirements of this AD. The average labor rate is $85 per work-hour. Required parts will cost up to $1,340 per product. Where the service information lists required parts costs that are covered under warranty, we have assumed that there will be no charge for these parts. As we do not control warranty coverage for affected parties, some parties may incur costs higher than estimated here. Based on these figures, we estimate the cost of this AD to the U.S. operators to be up to $499,500, or $2,700 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 15870, March 22, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-22-02 Airbus: Amendment 39-16844. Docket No. FAA-2011-0255; Directorate Identifier 2010-NM-253-AD.

Effective Date

(a) This airworthiness directive (AD) becomes effective November 29, 2011.

Affected ADs

(b) None.

Applicability

(c) This AD applies to all Airbus Model A300 B4-601, B4-603, B4-620, and B4-622 airplanes; Model A300 B4-605R and B4-622R airplanes; Model A300 F4-605R and F4-622R airplanes; Model A300 C4-605R Variant F airplanes; and Model A310-203, -204, -221, -222, -304, -322, -324, and -325 airplanes; certificated in any category.

Subject

(d) Air Transport Association (ATA) of America Code 24: Electrical Power.

Reason

(e) The mandatory continuing airworthiness information (MCAI) states:

An operator reported several cases of wire damages at the pylon/wing interface. Analysis revealed that wires damages are due to installation quality issue resulting from lack of information in installation drawings and job cards.

Moreover detailed analysis has highlighted that the Low Pressure Valve (LPV) wires were not segregated by design.

* * * * *

If left uncorrected, the wire chafing could impact fire protection and detection system. It may also induce dormant failure on LPV preventing its closure leading to a permanent and uncontrolled fire (in case of fire ignited upstream the High Pressure Valve (HPV)).

* * * * *

Compliance

(f) You are responsible for having the actions required by this AD performed within the compliance times specified, unless the actions have already been done.

Actions

(g) Within 30 months or 4,000 flight hours after the effective date of this AD, whichever occurs first: Modify the electrical installation in the pylon/wing interface on the left-hand and right-hand side by doing a general visual inspection of wires for damage and doing all applicable repairs, replace the cable tie with lacing tape, improve the electrical installation at the level of the electrical ramp, and improve the segregation of both routes of the LPV channels 1 and 2 between LPV connector and ramp; in accordance with the Accomplishment Instructions of Airbus Mandatory Service Bulletin A300-24-6106, excluding Appendix 01, dated March 31, 2010 (for Airbus Model A300 B4-600, B4-600R, and F4-600R series airplanes, and Model C4-605R Variant F airplanes); or Airbus Mandatory Service Bulletin A310-24-2106, Revision 01, including Appendix 01, dated April 4, 2011 (for Airbus Model A310 series airplanes). Do all applicable repairs before further flight.

FAA AD Differences

Note 1: This AD differs from the MCAI and/or service information as follows: No differences.

Other FAA AD Provisions

(h) The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue, SW., Renton, Washington 98057-3356; telephone (425) 227-2125; fax (425) 227-1149. Information may be e-mailed to: 9-ANM-11-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(i) Refer to MCAI European Aviation Safety Agency Airworthiness Directive 2010-0178R1, excluding Appendix 01, dated May 20, 2011; Airbus Mandatory Service Bulletin A300-24-6106, dated March 31, 2010; and Airbus Mandatory Service Bulletin A310-24-2106, Revision 01, including Appendix 01, dated April 4, 2011; for related information.

Material Incorporated by Reference

(j) You must use Airbus Mandatory Service Bulletin A300-24-6106, excluding Appendix 01, dated March 31, 2010; or Airbus Mandatory Service Bulletin A310-24-2106, Revision 01, including Appendix 01, dated April 4, 2011; as applicable; to do the actions required by this AD, unless the AD specifies otherwise.

(1) The Director of the Federal Register approved the incorporation by reference of this service information under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail account.airworth-eas@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on October 11, 2011.
Ali Bahrami,
Manager, Transport Airplane Directorate, Aircraft Certification Service.

[FR Doc. 2011-27005 Filed 10-24-11; 8:45 am]

BILLING CODE 4910-13-P